DEPARTMENT OF HOMELAND SECURITY

Transportation Security Administration

Notice of Intent To Request Approval From the Office of Management and Budget (OMB) for Three New Public Collections of Information; Transportation Worker Identification Credential (TWIC) Prototype; Transportation Worker Survey; Lead Stakeholder Port Security Interviews

AGENCY: Transportation Security Administration (TSA), DHS.

ACTION: Notice.

SUMMARY: TSA invites public comment on three new information collection requirements abstracted below that will be submitted to OMB in compliance with the Paperwork Reduction Act.

DATES: Send your comments by June 4, 2004.

ADDRESSES: Comments may be mailed or delivered to Lolie Kull, TWIC Program Office, TSA Headquarters, East Tower, Floor 8, TSA-19, 601 South 12th Street, Arlington, VA 22202-4220.

FOR FURTHER INFORMATION CONTACT: Conrad Huygen, Office of Information Management Programs, TSA Headquarters, West Tower, Floor 4, TSA-17, 601 South 12th Street, Arlington, VA 22202-4220; telephone (571) 227-1954; facsimile (571) 227-2912.

SUPPLEMENTARY INFORMATION: In accordance with the Paperwork Reduction Act of 1995, (44 U.S.C. 3501 et seq.), an agency may not conduct or sponsor, and a person is not required to respond to a collection of information, unless it displays a valid OMB control number. Therefore, in preparation for submission of the specified information collection, TSA solicits comments in order to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology where appropriate.

Purpose of Data Collection

The Transportation Worker Identification Credential (TWIC) program is working to create a universal credential to be used as a means to enhance access control for individuals requiring unescorted access to secure areas of the national transportation system. The information collected under this proposal will be used to operate and evaluate the TWIC system during the Prototype Phase. In October 2003, TSA obtained a control number (1652-0014) from OMB for the TWIC Technology Evaluation Phase that expires in June 2004. Rather than renew the existing control number, TSA is seeking a new control number due to an expansion in the program's scope for the Prototype Phase, which now includes enhanced criteria to assess business processes of a significantly larger group of transportation workers and facilities. During this phase, TSA will fully develop the program, measure credential performance and effectiveness, collect user feedback, and provide data analysis prior to proceeding to full-scale deployment.

Description of Data Collection

TSA will issue credentials to a select group of transportation workers and then administer two instruments to collect data on the effectiveness of the TWIC program as well as the satisfaction of the transportation workers who will be using these credentials. TSA intends to collect data via the following instruments:

(1) Transportation Worker Identification Credential (TWIC). The following information will be collected from individual transportation workers and facility operators to create the credential: (a) Individual's name, (b) other identifying data to include address, phone number, social security number, date of birth, and place of birth, (c) company, organization, or affiliation, (d) biometric data and digital photograph, and (e) access level information. TSA estimates a total of 200,000 respondents and, based on an estimated burden of 22 minutes per respondent, a maximum total program-wide burden of approximately 73,333 hours.

(2) Transportation Worker Survey. TSA next intends to conduct a transportation worker survey at each site that is part of the Prototype Phase. These surveys will be distributed randomly either during or after the TWIC is issued at participating transportation facilities. The respondents who choose to participate in the surveys will be asked to return the completed survey within 30 days. The sample of workers receiving surveys at each site will be representative of the demographics of all the workers who are participating in the pilot program, including workers who access facilities on a 24-hour per day, 7-day per week basis.

Participation by workers in the survey will be voluntary. A TSA contractor will administer the survey independent of TSA. The survey will include questions about the workers' experience as well as the effectiveness of the TWIC. Dates, times, and locations will be selected within each site to provide a representation of worker satisfaction and credential effectiveness over the survey period. TSA estimates a total of 1,000 respondents and, based on an estimate of a 15-minute burden per respondent, a maximum program-wide total burden of approximately 250 hours. There will not be a burden on workers who choose not to respond.

(3) Lead Stakeholder Port Security Interviews. Finally, TSA will have a contractor conduct personal interviews of the lead stakeholder at each site participating in the Prototype Phase. The purpose of the interview will be to record observations on operational impact, system performance and utility, and identify problems that may have arisen. The results of these interviews will not be used for any formal performance measurement nor published outside of TSA, but will enable service improvement at each site. Participation by stakeholders will be voluntary. The interview format will come from a list of questions and will be limited to 15 minutes per respondent. Based on a projected total of 50 respondents, TSA estimates an aggregate program-wide burden of 12.5 hours. There will be no burden on stakeholders who choose not to respond.

Use of Results

TSA Headquarters will use the results to evaluate the performance and effectiveness of the TWIC program. The results will also be analyzed to support future implementation and program decisions. TSA will further use this data to evaluate the impact of policy or process changes on customer satisfaction, public confidence, and overall security.

Issued in Arlington, Virginia, on March 26, 2004.
Susan T. Tracey,
Chief Administrative Officer.

[FR Doc. 04-7620 Filed 4-2-04; 8:45 am]

BILLING CODE 4910-62-P